FEDERAL ELECTION COMMISSION

Sunshine Act Notices

DATE and TIME: Thursday, February 3, 2011, at 10 a.m.

PLACE: 999 E Street, NW., Washington, DC (Ninth Floor).

STATUS: This meeting will be open to the public.

ITEMS TO BE DISCUSSED: Correction and Approval of Minutes for January 20, 2011.

Audit Division Recommendation Memorandum on the Georgia Federal Elections Committee.

Kucinich for President, Inc.—Statement of Reasons—Repayment Determination upon Administrative Review.

Audit Division Recommendation Memorandum on the Kansas Republican Party.

Management and Administrative Matters.

Individuals who plan to attend and require special assistance, such as sign language interpretation or other reasonable accommodations, should contact Shawn Woodhead Werth, Commission Secretary, at (202) 694-1040, at least 72 hours prior to the hearing date.

PERSON TO CONTACT FOR INFORMATION: Judith Ingram, Press Officer Telephone: (202) 694-1220.

Shawn Woodhead Werth,
Secretary and Clerk of the Commission.

[FR Doc. 2011-2047 Filed 1-26-11; 4:15 pm]

BILLING CODE 6715-01-P